ENVIRONMENTAL PROTECTION AGENCY

40 CFR Part 52

[EPA-R05-OAR-2012-0648; EPA-R05-OAR-2012-0834; FRL-9773-4]

Approval and Promulgation of Air Quality Implementation Plans; Ohio and Indiana; Cincinnati-Hamilton, Ohio, Ohio and Indiana 1997 8-Hour Ozone Maintenance Plan Revisions to Approved Motor Vehicle Emissions Budgets

AGENCY: Environmental Protection Agency (EPA).

ACTION: Proposed rule.

SUMMARY: EPA is proposing to approve the request by Ohio and Indiana to revise the Cincinnati-Hamilton, 1997 8-hour ozone maintenance air quality State Implementation Plans (SIPs) to replace the previously approved motor vehicle emissions budgets (budgets) with budgets developed using EPA's Motor Vehicle Emissions Simulator (MOVES) 2010a emissions model. The Ohio and Indiana portions of the Cincinnati-Hamilton area include the Ohio Counties of Butler, Clermont, Clinton, Hamilton, and Warren, Ohio and Lawrenceburg Township in Dearborn County, Indiana. Ohio submitted the SIP revision request to EPA on June 29, 2012. Indiana submitted the SIP revision request to EPA for parallel processing with a letter dated October 12, 2012, and followed up with a final submittal on December 11, 2012. Ohio and Indiana have submitted identical budgets which cover the Ohio and Indiana portions of the Cincinnati-Hamilton 1997 ozone maintenance area.

DATES: Comments must be received on or before February 28, 2013.

ADDRESSES: Submit your comments, identified by Docket ID No. EPA-R05-OAR-2012-0648 for Ohio and EPA-RO5-OAR-2012-0834 for Indiana, by one of the following methods:

1. www.regulations.gov: Follow the on-line instructions for submitting comments.

2. Email: blakley.pamela@epa.gov.

3. Fax: (312) 692-2450.

4. Mail: Pamela Blakley, Chief, Control Strategies Section, Air Programs Branch (AR-18J), U.S. Environmental Protection Agency, 77 West Jackson Boulevard, Chicago, Illinois 60604.

5. Hand Delivery: Pamela Blakley, Chief, Control Strategies Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Please see the direct final rule which is located in the Rules section of this Federal Register for detailed instructions on how to submit comments.

FOR FURTHER INFORMATION CONTACT: Anthony Maietta, Environmental Protection Specialist, Control Strategies Section, Air Programs Branch (AR-18J), Environmental Protection Agency, Region 5, 77 West Jackson Boulevard, Chicago, Illinois 60604, (312) 353-8777, maietta.anthony@epa.gov.

SUPPLEMENTARY INFORMATION: In the Final Rules section of this Federal Register, EPA is approving the states' SIP submittals as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this Federal Register.

Dated: January 11, 2013.
Susan Hedman,
Regional Administrator, Region 5.

[FR Doc. 2013-01726 Filed 1-28-13; 8:45 am]

BILLING CODE 6560-50-P